SECURITIES AND EXCHANGE COMMISSION

[Release No. 34-76892; File No. SR-MIAX-2016-01]

Self-Regulatory Organizations; Miami International Securities Exchange LLC; Notice of Filing and Immediate Effectiveness of a Proposed Rule Change To Amend Its Fee Schedule

January 13, 2016.

Pursuant to the provisions of Section 19(b)(1) of the Securities Exchange Act of 1934 (“Act”) ¹ and Rule 19b-4 thereunder,² notice is hereby given that on January 12, 2016, Miami International Securities Exchange LLC (“MIAX” or “Exchange”) filed with the Securities and Exchange Commission (“Commission”) a proposed rule change as described in Items I, II, and III below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The Exchange is filing a proposal to amend the MIAX Options Fee Schedule (“Fee Schedule”) to eliminate certain Web CRD Fees which relate to Series 56 and will no longer apply from and after January 4, 2016 and to include certain Web CRD Fees which relate to Series 57 and Web-based delivery of continuing education that will apply from and after January 4, 2016.

The text of the proposed rule change is available on the Exchange's Web site at http://www.miaxoptions.com/filter/wotitle/rule_filing, at MIAX's principal office, and at the Commission's Public Reference Room.

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in sections A, B, and C below, of the most significant aspects of such statements.

A. Self-Regulatory Organization's Statement of the Purpose of, and Statutory Basis for, the Proposed Rule Change

1. Purpose

The purpose of the proposed rule change is to amend the Fee Schedule to delete the Continuing Education Fees and the Qualification Examination Fee which relate to the Series 56 registration category under the Regulatory Fees section of the Fee Schedule. The Financial Industry Regulatory Authority (“FINRA”) is retiring the Proprietary Traders Qualification Examination (Series 56) and the S501 Proprietary Traders Continuing Education Program and replacing them with the Securities Trader Qualification Examination (Series 57) and the S101 Continuing Education Program, including via Web-based delivery.³

³ See Securities Exchange Act Release Nos. 75783 (August 28, 2015), 80 FR 53369 (September 3, 2015) (approving SR-FINRA-2015-017) and 75581 (July 31, 2015), 80 FR 47018 (August 6, 2015) (approving SR-FINRA-2015-015) collectively referred to herein as the “FINRA Amendments”. According to the approval orders, FINRA's expected effective date for the FINRA Amendments is January 4, 2016.

Specifically, the Exchange proposes to delete the (i) $60.00 Continuing Education Fee for Series 56 and (ii) $195.00 Series 56 Examination Fee. The Exchange also proposes to delete the phrase “except the Series 56” with respect to the $100.00 Continuing Education Fee for All Registrations except the Series 56. The Exchange further proposes to add a (i) $55.00 Continuing Education Fee for All Registrations if Web-based and (ii) $120.00 Series 57 Examination Fee.

MIAX is proposing such Fee Schedule amendments in consultation with FINRA and the other exchanges, and anticipates that the other exchanges will make corresponding changes to their respective fee schedules.⁴

⁴ See Securities Exchange Act Release Nos. 76391 (November 9, 2015), 80 FR 70862 (November 16, 2015) (SR-FINRA-2015-044) and 75581 (July 31, 2015), 80 FR 47018 (August 6, 2015) (SR-FINRA-2015-015).

Background

MIAX has amended its rules to establish the Securities Trader and Securities Trader Principal registration categories, to establish the Series 57 examination as the appropriate qualification examination for Securities Traders and retire the Series 56 examination for Proprietary Traders, and to establish S101 as the appropriate continuing education program for Securities Traders and retire the S501 continuing education program for Proprietary Traders, from and after January 4, 2016. The Exchange also amended its rules to provide for Web-based delivery of the continuing education Regulatory Element for registered persons from and after January 4, 2016.⁵

⁵ See Securities Exchange Act Release No. 76691 (December 18, 2015), 80 FR 80425 (December 24, 2015) (SR-MIAX-2015-71).

In accordance with MIAX's amended rules relating to the new Securities Trader registration category, individual Members and associated persons of Members ⁶ engaged in proprietary trading, the execution of transactions on an agency basis, or the direct supervision of such activities, with respect to transactions in equity, preferred or convertible debt securities, or foreign currency options on the Exchange, will be required to register with the Exchange as Securities Traders and be qualified by passing the new Securities Trader qualification examination (Series 57) being implemented by FINRA, unless grandfathered as provided for in the Rules. In addition, the Series 57 examination replaces the Series 56 examination for those exchange registration categories, such as the Proprietary Trader Principal registration category, where the Series 56 examination is currently an acceptable prerequisite.⁷

⁶ Other than any person associated with a Member whose trading activities are conducted principally on behalf of an investment company that is registered with the Commission pursuant to the Investment Company Act of 1940 and that controls, is controlled by or is under common control, with the Member. See id.

⁷ See supra note 5. These amended rules will become effective as of January 4, 2016.

The Exchange has further amended its Rules, in consultation with FINRA and the other exchanges, to provide for Web-based delivery of the CE Regulatory Element for registered persons. The personalized S101 CE Program will be the required CE Program for all registered persons including Securities Traders.⁸

⁸ Id.

Proposal

The Exchange proposes to amend its Fee Schedule to delete the (i) $60.00 Continuing Education Fee for Series 56, (ii) $195.00 Series 56 Examination Fee, and (iii) the phrase “except the Series 56” with respect to the $100.00 Continuing Education Fee for All Registrations except the Series 56, since such CE fee will become applicable to all registration categories without exception. The Exchange further proposes to add a (i) $55.00 Continuing Education Fee for All Registrations which will be applicable for Web-based delivery of the CE Regulatory Element for registered persons, and (ii) $120.00 Series 57 Examination Fee which will be applicable with respect to the new Securities Trader Qualification Examination (Series 57).

The $100.00 fee charged for administration of the S101 CE program applicable to registrants required to take examinations other than the Series 56 will remain in effect, and become applicable to all registrants, if a CE session is conducted at a testing center from January 4, 2016 through no later than six months thereafter when the CE program will no longer be offered at testing centers. A new $55.00 fee will be applicable to all registrants from and after January 4, 2016 for Web-based administration of the S101 CE program. The $195.00 fee currently charged for the Series 56 examination will be replaced with a $120.00 fee for the Series 57 examination from and after January 4, 2016. Therefore, the Exchange is proposing to add the $55.00 Web-based delivery CE fee and $120.00 Series 57 examination fee to the current Fee Schedule. Additionally, the $60.00 fee currently charged for administration of the S501 CE Program applicable to Series 56 is being retired from and after January 4, 2016. Therefore, the Exchange is proposing to delete both the $195.00 Series 56 examination fee and $60.00 S501 CE fee from the current Fee Schedule.

Since the Series 57 and the S101 CE Program will fall within FINRA's jurisdiction, the related fees will be billed directly through FINRA commencing as of January 4, 2016.⁹

⁹ See supra note 4.

2. Statutory Basis

The Exchange believes that its proposal to amend its Fee Schedule is consistent with Section 6(b) of the Act ¹⁰ in general, and furthers the objectives of Section 6(b)(4) of the Act ¹¹ in particular, in that it is an equitable allocation of reasonable fees and other charges among Exchange members and issuers and other persons using its facilities.

¹⁰ 15 U.S.C. 78f(b).

¹¹ 15 U.S.C. 78f(b)(4).

The Exchange believes that the proposal is fair, equitable and not unreasonably discriminatory because the fee change applies equally to all Members and persons associated with Members. The proposed deletion of the S501 Continuing Education Fees and Series 56 Qualification Examination Fee is further reasonable because such CE program and exam will be replaced by the S101 CE program (including via Web-based delivery) and Series 57 Qualification Examination program. In addition, the Exchange believes that the fees added to the Fee Schedule and amended fee are equitably allocated and not unfairly discriminatory as they will apply uniformly to all Members and persons associated with the Members who choose [sic] to take the Series 57 examination and participate in the continuing education program through FINRA.

B. Self-Regulatory Organization's Statement on Burden on Competition

The Exchange does not believe that the proposed rule change will result in any burden on competition that is not necessary or appropriate in furtherance of the purposes of the Act. The Exchange further believes that the proposal does not impose any burden on competition because it believes that the other exchanges will also be making the same changes to their fee schedules.¹²

¹² See supra notes 3 and 4.

C. Self-Regulatory Organization's Statement on Comments on the Proposed Rule Change Received From Members, Participants, or Others

Written comments were neither solicited nor received.

III. Date of Effectiveness of the Proposed Rule Change and Timing for Commission Action

The foregoing rule change has become effective pursuant to Section 19(b)(3)(A)(ii) of the Act,¹³ and Rule 19b-4(f)(2) ¹⁴ thereunder. At any time within 60 days of the filing of the proposed rule change, the Commission summarily may temporarily suspend such rule change if it appears to the Commission that such action is necessary or appropriate in the public interest, for the protection of investors, or otherwise in furtherance of the purposes of the Act. If the Commission takes such action, the Commission shall institute proceedings to determine whether the proposed rule should be approved or disapproved.

¹³ 15 U.S.C. 78s(b)(3)(A)(ii).

¹⁴ 17 CFR 240.19b-4(f)(2).

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an email to rule-comments@sec.gov. Please include File Number SR-MIAX-2016-01 on the subject line.

Paper Comments

• Send paper comments in triplicate to Brent J. Fields, Secretary, Securities and Exchange Commission, 100 F Street NE., Washington, DC 20549-1090.

All submissions should refer to File Number SR-MIAX-2016-01. This file number should be included on the subject line if email is used. To help the Commission process and review your comments more efficiently, please use only one method. The Commission will post all comments on the Commission's Internet Web site (http://www.sec.gov/rules/sro.shtml).

Copies of the submission, all subsequent amendments, all written statements with respect to the proposed rule change that are filed with the Commission, and all written communications relating to the proposed rule change between the Commission and any person, other than those that may be withheld from the public in accordance with the provisions of 5 U.S.C. 552, will be available for Web site viewing and printing in the Commission's Public Reference Room, 100 F Street NE., Washington, DC 20549, on official business days between the hours of 10:00 a.m. and 3:00 p.m. Copies of the filing also will be available for inspection and copying at the principal office of the Exchange. All comments received will be posted without change; the Commission does not edit personal identifying information from submissions. You should submit only information that you wish to make available publicly.

All submissions should refer to File Number SR-MIAX-2016-01 and should be submitted on or before February 10, 2016.

¹⁵ 17 CFR 200.30-3(a)(12).

For the Commission, by the Division of Trading and Markets, pursuant to delegated authority.¹⁵
Robert W. Errett,
Deputy Secretary.

[FR Doc. 2016-00971 Filed 1-19-16; 8:45 am]

BILLING CODE 8011-01-P